DEPARTMENT OF EDUCATION

[Docket No.: ED-2024-SCC-0110]

Agency Information Collection Activities; Comment Request; Regional Educational Laboratory Midwest: Teacher Preparation Program Completion: What Factors Play a Role?

AGENCY: Institute of Education Sciences (IES), Department of Education (ED).

ACTION: Notice.

SUMMARY: In accordance with the Paperwork Reduction Act (PRA) of 1995, the Department is proposing a new information collection request (ICR).

DATES: Interested persons are invited to submit comments on or before November 12, 2024.

ADDRESSES: To access and review all the documents related to the information collection listed in this notice, please use http://www.regulations.gov by searching the Docket ID number ED-2024-SCC-0110. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 4C210, Washington, DC 20202-1200.

FOR FURTHER INFORMATION CONTACT: For specific questions related to collection activities, please contact Christopher Boccanfuso, (202) 219-0373.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Regional Educational Laboratory Midwest: Teacher Preparation Program Completion: What Factors Play a Role?

OMB Control Number: 1850-NEW.

Type of Review: New ICR.

Respondents/Affected Public: Individuals or Households.

Total Estimated Number of Annual Responses: 421.

Total Estimated Number of Annual Burden Hours: 220.

Abstract: The U.S. Department of Education seeks clearance for the recruitment and data collection protocols for the REL Midwest research study, Teacher Preparation Program Completion: What Factors Play a Role? The study, scheduled for the 2024/25 school year, will focus on understanding factors influencing the completion of traditional undergraduate teacher preparation programs. This is crucial as traditional teacher preparation programs are the main sources of new teachers, yet the number of bachelor's degrees in education has declined by 18 percent between 2010 and 2020.

This study aims to address two main research questions: (1) How do the demographic and academic characteristics of students in traditional undergraduate teacher preparation programs differ between completers and noncompleters? and (2) How do personal and contextual factors relate to students' completion of traditional teacher preparation programs?

The study will collect quantitative survey data and qualitative interview data from students who completed and did not complete traditional undergraduate teacher preparation programs, supplemented by administrative data from teacher preparation programs. This approach will allow the study to gather information on personal and contextual factors not captured in administrative data, such as the ability to complete unpaid student teaching, perceptions of the teaching profession, and other intrinsic motivations and external conditions that influence completion.

The urgency to improve teacher candidate retention and graduation rates is driven by long-standing teacher shortages and a desire to increase racial/ethnic and gender diversity in the teacher workforce to mirror the composition of K-12 students in the United States. Findings from this study aim to inform program and policy-level solutions to support teaching candidates, particularly those from diverse backgrounds, ensuring they persist through their teacher preparation programs.

Dated: September 5, 2024.
Juliana Pearson,
PRA Coordinator, Strategic Collections and Clearance, Governance and Strategy Division, Office of Chief Data Officer, Office of Planning, Evaluation and Policy Development.

[FR Doc. 2024-20437 Filed 9-10-24; 8:45 am]

BILLING CODE 4000-01-P